DEPARTMENT OF EDUCATION

34 CFR Part 691

Academic Competitiveness Grant (ACG) and National Science and Mathematics Access To Retain Talent Grant (National Smart Grant) Programs

CFR Correction

In Title 34 of the Code of Federal Regulations, Part 400 to End, revised as of July 1, 2009, on page 978, in § 691.15, remove paragraphs (b)(1)(ii)(C)(1) and (b)(1)(ii)(C)(2).

[FR Doc. 2010-14051 Filed 6-9-10; 8:45 am]

BILLING CODE 1505-01-D